DEPARTMENT OF THE TREASURY

Internal Revenue Service

26 CFR Part 1

[REG-142695-05]

RIN 1545-BF00

Employee Benefits—Cafeteria Plans; Correction

AGENCY: Internal Revenue Service (IRS), Treasury.

ACTION: Correction to notice of proposed rulemaking.

SUMMARY: This document contains a correction to a notice of proposed rulemaking (REG-142695-05) that was published in the Federal Register on Monday, August 6, 2007 (72 FR 43938) providing guidance on cafeteria plans.

FOR FURTHER INFORMATION CONTACT: Mireille T. Khoury at (202) 622-6080 (not a toll-free number).

SUPPLEMENTARY INFORMATION:

Background

The correction notice that is the subject of this document is under section 125 of the Internal Revenue Code.

Need for Correction

As published, the notice of proposed rulemaking (REG-142695-05) contains an error that may prove to be misleading and is in need of clarification.

Correction of Publication

Accordingly, the publication of proposed rulemaking (REG-142695-05), which was the subject of FR Doc. E7-14827, is corrected as follows:

On page 43942, column 1, in the preamble, under the paragraph heading “Nonqualified Benefits”, line 10, the language “Sess. 29, reprinted in 1996 U.S.C.C.A.N.” is corrected to read “Sess. 296, reprinted in 1996 U.S.C.C.A.N.”.

LaNita Van Dyke,
Chief, Publications and Regulations Branch, Legal Processing Division, Associate Chief Counsel (Procedure and Administration).

[FR Doc. E7-18608 Filed 9-20-07; 8:45 am]

BILLING CODE 4830-01-P